DEPARTMENT OF THE INTERIOR

Bureau of Reclamation

43 CFR Parts 421 and 423

RIN 1006-AA52

Public Conduct on Bureau of Reclamation Facilities, Lands, and Waterbodies; Inclusion of Hoover Dam

AGENCY: Bureau of Reclamation, Interior.

ACTION: Notice of proposed rulemaking.

SUMMARY: This proposed rule would make public conduct at Hoover Dam subject to the same rules governing public conduct at other Bureau of Reclamation facilities. In order to do this, Reclamation is proposing to remove from the Code of Federal Regulations the existing 43 CFR Part 421 (Rules of Conduct at Hoover Dam) and make public conduct on all Reclamation projects subject to 43 CFR Part 423 (Public Conduct on Bureau of Reclamation Facilities, Lands, and Waterbodies).

DATES: Submit comments by November 27, 2006.

ADDRESSES: You may submit comments, identified by the number 1006-AA52, by any of the following methods:

—Use the Federal rulemaking portal: http://www.regulations.gov Follow the instructions for submitting comments.

—By e-mail: PublicConductRuleComments@do.usbr.gov Please include the number 1006-AA52 in the subject line of the e-mail.

—By fax to: 720-544-4208.

—By mail to the Deputy Commissioner, Policy, Administration, and Budget, Bureau of Reclamation, 1849 C Street NW., Washington, DC 20240-0001.

—By hand delivery to the Deputy Commissioner, Policy, Administration, and Budget, Bureau of Reclamation, 1849 C Street NW., Washington, DC 20240-0001.

FOR FURTHER INFORMATION CONTACT: Gary L. Anderson, Code 84-41000, Bureau of Reclamation, P.O. Box 25007, Denver, Colorado 80225, telephone 303-445-2891.

SUPPLEMENTARY INFORMATION:

I. Background

On February 7, 1974, the Bureau of Reclamation published 43 CFR Part 421, Rules of Conduct at Hoover Dam, to address matters of security and public conduct at the dam site. On November 12, 2001, Congress enacted Public Law 107-69 (now codified at 43 U.S.C. 373b and 373c), to provide law enforcement authority within Reclamation projects and on Reclamation lands. Section 1(a) of Public Law 107-69 requires Reclamation to issue regulations to maintain law and order and protect persons and property on all Reclamation projects. Pursuant to that statutory requirement, Reclamation issued a final rule, 43 CFR Part 423, Public Conduct on Bureau of Reclamation Lands and Projects, on April 17, 2002, and replaced that rule with a more comprehensive rule on April 17, 2006.

Initially, Reclamation concluded that Hoover Dam need not be included under the new public conduct rule because 43 CFR Part 421 was already in place and was sufficient to serve the needs of the Hoover Dam area. However, upon further review, Reclamation has determined that it would be desirable to make all Reclamation projects subject to the same set of public conduct regulations. Having a single Reclamation public conduct rule will help reduce possibilities for confusion on the part of visitors to Reclamation projects.

Reclamation has also determined that rescinding 43 CFR Part 421 and making the Hoover Dam area subject to the new public conduct rule will not result in significant impacts to the public.

II. Procedural Requirements

1. Regulatory Planning and Review (E.O. 12866)

The Office of Management and Budget has determined that this document is not a significant rule and has not reviewed this rule under Executive Order 12866. We have conducted the analyses required by E.O. 12866 and the results are given below.

(a) This rule will not have an effect of $100 million or more on the economy. It will not adversely affect in a material way the economy, productivity, competition, jobs, the environment, public health or safety, or State, local, or tribal governments or communities. This rule only addresses public conduct at Hoover Dam.

(b) This rule will not create a serious inconsistency or otherwise interfere with an action taken or planned by another agency. This rule only addresses public conduct at Hoover Dam.

(c) This rule does not alter the budgetary effects of entitlements, grants, user fees, or loan programs or the rights or obligations of their recipients. This rule only addresses public conduct at Hoover Dam.

(d) This rule does not raise novel legal or policy issues. This rule only addresses public conduct at Hoover Dam.

2. Regulatory Flexibility Act

The Department of the Interior certifies that this document will not have a significant economic effect on a substantial number of small entities under the Regulatory Flexibility Act (5 U.S.C. 601 et seq.). This rule only addresses public conduct at Hoover Dam.

3. Small Business Regulatory Enforcement Fairness Act (SBREFA)

This rule is not a major rule under 5 U.S.C. 804(2), the Small Business Regulatory Enforcement Fairness Act. This rule:

(a) Does not have an annual effect on the economy of $100 million or more. This rule only addresses public conduct at Hoover Dam.

(b) Does not cause a major increase in costs or prices for consumers, individual industries, Federal, State, or local government agencies, or geographic regions. This rule only addresses public conduct at Hoover Dam.

(c) Does not have significant adverse effects on competition, employment, investment, productivity, innovation, or the ability of U.S.-based enterprises to compete with foreign-based enterprises. This rule only addresses public conduct at Hoover Dam.

4. Unfunded Mandates Reform Act

This rule does not impose an unfunded mandate on State, local, or tribal governments or the private sector of more than $100 million per year. The rule does not have a significant or unique effect on State, local, or tribal governments or the private sector. This rule only addresses public conduct at Hoover Dam. A statement containing the information required by the Unfunded Mandates Reform Act (2 U.S.C. 1531 et seq.) is not required.

5. Takings (E.O. 12630)

Under the criteria in Executive Order 12630, the rule does not have significant takings implications. This rule only addresses public conduct at Hoover Dam. A takings implication assessment is not required.

6. Federalism (E.O. 13132)

Under the criteria in Executive Order 13132, the rule does not have sufficient federalism implications to warrant the preparation of a Federalism Assessment. This rule only addresses public conduct at Hoover Dam. A Federalism Assessment is not required.

7. Civil Justice Reform (E.O. 12988)

This rule complies with the requirements of Executive Order 12988. Specifically, this rule:

(a) Does not unduly burden the judicial system;

(b) Meets the criteria of section 3(a) requiring that all regulations be reviewed to eliminate errors and ambiguity and be written to minimize litigation;

(c) Meets the criteria of section 3(b)(2) requiring that all regulations be written in clear language and contain clear legal standards.

8. Consultation With Indian Tribes (E.O. 13175)

Under the criteria in E.O. 13175, we have evaluated this rule and determined that it has no potential effects on federally recognized Indian Tribes. This rule only addresses public conduct at Hoover Dam.

9. Paperwork Reduction Act

This rule does not require an information collection from 10 or more parties and a submission under the Paperwork Reduction Act is not required. An OMB form 83-I is not required.

10. National Environmental Policy Act

This rule does not constitute a major Federal action significantly affecting the quality of the human environment. A detailed statement under the National Environmental Policy Act of 1969 is not required.

11. Data Quality Act

In developing this rule we did not conduct or use a study experiment, or survey requiring peer review under the Data Quality Act (Pub. L. 106-554).

12. Effects on the Energy Supply (E. O. 13211)

This rule is not a significant energy action under the definition in Executive Order 13211. A statement of energy effects is not required.

13. Clarity of This Regulation

We are required by Executive Orders 12866 and 12988 and by the Presidential Memorandum of June 1, 1998, to write all rules in plain language. This means each rule we publish must:

—Be logically organized;

—Use the active voice to address readers directly;

—Use clear language rather than jargon;

—Be divided into short sections and sentences;

—Use lists and tables wherever possible.

If you feel we have not met these requirements, send us comments as instructed in the ADDRESSES section. To better help us revise the rule, your comments should be as specific as possible. For example, you should tell us the numbers of the specific sections that are unclearly written, which sections or sentences are too long, the sections where you feel lists or table would be useful, etc.

14. Public Comments

If you wish to comment on this proposed rule, you may submit your comments by any of the methods listed in the ADDRESSES section. Our practice is to make comments, including names and addresses of respondents, available for public review during business hours. In some circumstances we may withhold from the rulemaking record a respondent's identity or home address, as allowable by law. If you wish us to withhold your name and/or address, you must indicate your request prominently at the beginning of your comment. However, we will not consider anonymous comments. We will make all submissions from organizations or businesses, and from individuals identifying themselves as representatives or officials of organizations or businesses, available for public inspection in their entirety.

List of Subjects

43 CFR Part 421

Law enforcement, Public conduct, Reclamation lands, Reclamation projects, Dams, Security measures.

43 CFR Part 423

Law enforcement, Public conduct, Reclamation lands, Reclamation projects, Dams, Security measures.

Dated: September 8, 2006.
Mark Limbaugh,
Assistant Secretary—Water and Science.

For the reasons set forth in the preamble, the Bureau of Reclamation proposes to amend 43 CFR Chapter 1 as follows:

PART 421—RULES OF CONDUCT AT HOOVER DAM

1. Part 421 is removed.

PART 423—PUBLIC CONDUCT ON BUREAU OF RECLAMATION FACILITIES, LANDS, AND WATERBODIES

2. The authority citation for part 423 continues to read as follows:

Authority: 43 U.S.C. 373b, 16 U.S.C. 460 1-31.

§ 423.3 [Amended]

3. In § 423.3 remove paragraph (a)(5).

[FR Doc. E6-15916 Filed 9-27-06; 8:45 am]

BILLING CODE 4310-MN-P